DEPARTMENT OF LABOR

Employment and Training Administration

[TA-W-55,482]

TI Automotive, Cass City, MI; Notice of Termination of Investigation

Pursuant to Section 221 of the Trade Act of 1974, an investigation was initiated on August 20, 2004 in response to petition filed by a company official on behalf of workers at TI Automotive, Cass City, Michigan.

The petitioner has requested that the petition be withdrawn. Consequently, further investigation in this case would serve no purpose, and the investigation has been terminated.

Signed in Washington, DC, this 27th day of August, 2004.
Elliott S. Kushner,
Certifying Officer, Division of Trade Adjustment Assistance.

[FR Doc. E4-2311 Filed 9-21-04; 8:45 am]

BILLING CODE 4510-30-P